DEPARTMENT OF HOMELAND SECURITY

Coast Guard

33 CFR Part 110

[Docket Number USCG-2014-0991]

RIN 1625-AA01

Anchorage Grounds; Lower Mississippi River Below Baton Rouge, LA, Including South and Southwest Passes; New Orleans, LA

AGENCY: Coast Guard, DHS.

ACTION: Final rule.

SUMMARY: The Coast Guard is adopting a 2017 interim rule involving four anchorage grounds on the Lower Mississippi River below Baton Rouge as a final rule. The interim rule established two anchorage grounds and revised two others which increased the available anchorage grounds necessary to accommodate vessel traffic. After considering comments on that rule we have decided to adopt it as final without change which now completes this rulemaking.

DATES: This rule is effective June 26, 2020.

ADDRESSES: To view documents mentioned in this preamble as being available in the docket, go to https://www.regulations.gov, type USCG-2014-0991 in the “SEARCH” box and click “SEARCH.” Click on Open Docket Folder on the line associated with this rule.

FOR FURTHER INFORMATION CONTACT: If you have questions about this rulemaking, call or email Lieutenant Commander Corinne Plummer, Sector New Orleans, U.S. Coast Guard; telephone 504-365-2375, email Corinne.M.Plummer@uscg.mil.

SUPPLEMENTARY INFORMATION:

I. Table of Abbreviations

ANPRM Advance noticed of proposed rulemaking

CFR Code of Federal Regulations

DHS Department of Homeland Security

FR Federal Register

§ Section

U.S.C. United States Code

II. Background Information and Regulatory History

Coast Guard Sector New Orleans received a request from the Crescent River Pilots Association and the New Orleans Baton Rouge Rivers Pilots Association to establish new anchorages and to amend existing anchorages. In response, on April 3, 2015, the Coast Guard published an advance notice of proposed rulemaking (ANPRM) titled “Anchorage Grounds: Lower Mississippi River below Baton Rouge, LA, including South and Southwest Passes; New Orleans, LA” (80 FR 18175). There we stated why we issued the ANPRM, and invited comments on potential regulatory action related to this anchorage grounds rule. During the comment period that ended June 2, 2015, we received three comments on the ANPRM.

After reviewing the received comments on the ANPRM, the Coast Guard moved forward with establishing the anchorages by publishing an interim rule on June 14, 2017 (82 FR 27112). That interim rule solicited new comments as well as established the anchorages on an interim basis to allow for observance of functional suitability over a period of time. During the comment period that ended October 12, 2017, no new comments were received. This final rule is completing this rulemaking by adopting the interim rule as final.

III. Legal Authority and Need for Rule

The Coast Guard is issuing this rule under authority in 33 U.S.C. 471 that has been delegated from the Secretary of Homeland Security to the Coast Guard. We have determined that the maritime or commercial interests of the United States require such anchorage grounds for safe navigation in the Lower Mississippi River.

IV. Discussion of Comments, Changes, and the Rule

As noted above, we received no comments on the interim rule published June 14, 2017. Therefore, the Coast Guard intends to move forward and is adopting the interim rule as final without any changes.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. Executive Order 13771 directs agencies to control regulatory costs through a budgeting process. This rule has not been designated a “significant regulatory action,” under Executive Order 12866. Accordingly, this rule has not been reviewed by the Office of Management and Budget (OMB), and pursuant to OMB guidance it is exempt from the requirements of Executive Order 13771.

This regulatory action determination is based on these anchorages being in effect from June 14, 2017, through an interim rule with no negative comments received since. In addition, these anchorages are on the side of the river and easily navigated around by all marine traffic.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received 0 comments from the Small Business Administration on this rulemaking. The Coast Guard certifies under 5 U.S.C. 605(b) that this rule will not have a significant economic impact on a substantial number of small entities.

This rule does not have a significant impact on a substantial number of small entities. The rule adopts a previously implemented interim rule amending two existing anchorages and creating two new anchorages. These anchorages are in the Federal Channel, a safe distance from shore, off revetment, in safe water, and do conflict with any other permit or impede safe navigation.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule completes a rulemaking that involves the revision of two anchorage grounds and the establishment of two anchorage grounds. It is categorically excluded from further review under paragraph L59(a) of Appendix A, Table 1 of DHS Instruction Manual 023-01-001-01, Rev. 01. A Record of Environmental Consideration supporting this determination is available in the docket where indicated under ADDRESSES.

List of Subjects in 33 CFR Part 110

Anchorage grounds.

PART 110—ANCHORAGE REGULATIONS

For the reasons discussed in the preamble, under authority of 33 U.S.C. 471; 33 CFR 1.05-1; and Department of Homeland Security Delegation No. 0170.1, the interim rule amending 33 CFR part 110 that was published at 82 FR 27112 on June 14, 2017, is adopted as a final rule without change.

Dated: April 27, 2020.
J.P. Nadeau,
Rear Admiral, U.S. Coast Guard, Commander, Eighth Coast Guard District.

[FR Doc. 2020-09401 Filed 5-26-20; 8:45 am]

BILLING CODE 9110-04-P